DEPARTMENT OF LABOR

Employment and Training Administration

Comment Request for Information Collection for The Data Validation Requirement for Employment and Training Programs (OMB Control No. 1205-0448): extension With No Changes

AGENCY: Employment and Training Administration, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data validation for the following employment and training programs: Workforce Investment Act (WIA) Title IB, Wagner-Peyser, Trade Adjustment Assistance (TAA), National Farmworker Jobs Program (NFJP) and Senior Community Service Employment Program (SCSEP). The current expiration date is February 28, 2011.

A copy of the proposed information collection request (ICR) can be obtained by contacting the office listed below in the addresses section of this notice.

DATES: Written comments must be submitted to the office listed in the addressee's section below on or before November 26, 2010.

ADDRESSES: Submit written comments to the U.S. Department of Labor, Employment and Training Administration, Office of Policy Development and Research, 200 Constitution Avenue NW., Room S-5206, Washington, DC 20210, Attention: Karen A. Staha. Telephone number: (202) 693-2917 (this is not a toll-free number). Fax: (202) 693-3490. E-mail: Staha.Karen@dol.gov.

SUPPLEMENTARY INFORMATION:

I. Background

The accuracy and reliability of program reports submitted by States and grantees using Federal funds are fundamental elements of good public administration and are necessary tools for maintaining and demonstrating system integrity. States and grantees receiving funding under WIA Title IB, Wagner-Peyser Act, TAA, and the Older Americans Act are required to maintain and report accurate program and financial information (WIA section 185 (29 U.S.C. 2935) and WIA Regulations 20 CFR 667.300(e)(2); Wagner-Peyser Act section 10 (29 U.S.C. 49i), Older Americans Act section 503(f)(3) and (4) (42 U.S.C. 3056a(f)(3) and (4)), and TAA Regulations 20 CFR 617.57).

Data Validation. The data validation requirement for employment and training programs strengthens the workforce system by ensuring that accurate and reliable information on program activities and outcomes is available. Data validation is intended to accomplish the following goals:

• Ensure that critical performance data are valid and accurate.

• Detect and identify specific problems with a State's or grantee's reporting processes, including the software used for compiling this information, to enable the State or grantee to correct any problems.

• Help States and grantees analyze the causes of performance successes and failures by displaying participant data organized by performance outcomes. In addition, the process enables States and grantees to calculate error rates by means of randomly selected validation subsamples of the complete set of records.

Data validation consists of two parts:

1. Report validation evaluates the validity of aggregate reports submitted to ETA by externally verifying the accuracy of the reporting software used to calculate the reports. Report validation is conducted by separately processing the complete file of participant records and comparing the validation results to those reported by the State or grantee.

2. Data element validation assesses the accuracy of participant data records. Data element validation is conducted via comprehensive manual reviews sampled participant records against source documentation in order to ensure accuracy and compliance with Federal definitions.

Data Validation Background. In response to an Office of Inspector General (OIG) finding that programmatic performance data submitted to ETA by the State grantees lacked adequate systematic and independent verification, ETA began the current Data Validation Initiative in 2003. This initiative utilizes a comprehensive data validation methodology embedded in specific Data Validation software for gauging the accuracy and validity of the aggregate State-level reports submitted annually to ETA, as well as the individual participant-level data underlying these aggregate reports. ETA programs that have implemented Data Validation include: WIA Title IB, Wagner-Peyser, TAA, NFJP and SCSEP. States received training prior to beginning validation and receive ongoing training and technical assistance from ETA's data validation contractor throughout the validation process.

Resources. The requirement to perform validation originates from States' and grantees' responsibility to provide accurate information on program activities and outcomes to ETA. States and grantees are expected to provide resources for conducting validation from their administrative funds. Validation of program performance is a basic responsibility of grantees, who are required to report on program performance, in accordance with statutory provisions and Department of Labor regulations (29 CFR 95.51 and 97.40).

Data Validation Tools. In an effort to minimize the costs of implementing data validation, ETA developed standardized software and user handbooks that States and grantees can use to conduct data validation.

• Software developed by ETA generates samples, worksheets, and reports on data accuracy. For report validation, the software validates the accuracy of aggregate reports that are generated by the State's or grantee's reporting software and produces an error rate for each reported count. For data element validation, the software generates a sample of the participant records and data elements for the State or grantee to validate. The software produces worksheets on which the validator records information after checking the source documentation in the sampled case files. The software calculates error rates for each data element, with confidence intervals of 3.5 percent for large States/grantees and 4 percent for small States/grantees.

• User handbooks provide detailed information on software installation, building and importing a validation file, and completing report and data element validation. The handbooks also explain the validation methodology, including sampling specifications and data element validation instructions for each data element to be validated.

Data Recording and Reports. States and grantees submit their validation results electronically to ETA in the same manner as other reports. The results are stored in a data base in ETA's headquarters in Washington, DC.

Training and Technical Assistance. ETA has provided data validation training and technical assistance to States in regional sessions on an ongoing basis since its inception. States and grantees may obtain technical assistance on validation procedures and the use of the validation tools by contacting ETA's data validation contractor.

II. Review Focus

The Department of Labor is particularly interested in comments which:

* Evaluate whether the proposed continuation of the collection of information is necessary for the proper performance of the functions of the agency, including whether the information has considerable practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: Extension without changes.

Title: The Data Validation Requirement for Employment and Training Programs.

OMB Number: 1205-0448.

Affected Public: State, local and tribal government entities and private non-profit organizations.

Form(s): Workforce Investment Act Data Reporting and Validation System (DRVS) User Handbook, Labor Exchange DRVS Software Users Guide, NFJP Data Validation Handbook, TAA Data Validation Handbook.

Total Annual Respondents: 179 (53 States, 52 NFJP and 74 SCSEP grantees).

Annual Frequency: Complete data validation annually.

Total Annual Responses: 285 (3 responses each for the 53 States, 1 response for each of the 52 NFJP grantees and 1 response for each of the 74 SCSEP grantees).

Average Time per Response: 347 hours.

Estimated Total Annual Burden Hours: 62,174.

Total Annual Burden Cost for Respondents: $0.

Comments submitted in response to this comment request will be summarized and/or included in the request for Office of Management and Budget approval of the information collection request; they will also become a matter of public record.

Dated: September 21, 2010.
Jane Oates,
Assistant Secretary, Employment and Training Administration.

[FR Doc. 2010-24052 Filed 9-24-10; 8:45 am]

BILLING CODE 4510-FN-P